DEPARTMENT OF VETERANS AFFAIRS

VA National Academic Affiliations Council; Notice of Meeting

The Department of Veterans Affairs (VA) gives notice under the Federal Advisory Committee Act, 5 U.S.C. App. 2, that the VA National Academic Affiliations Council (Council) will meet via conference call on July 12, from 1 p.m. to 3 p.m. EST. The meeting is open to the public.

The purpose of the Council is to advise the Secretary on matters affecting partnerships between VA and its academic affiliates.

On July 12, 2022, the Council will receive a debrief of the spring 2022 face-to-face meeting; a brief on MISSION Act, Section 403 updates; expansion of minority serving institution relationships/geomapping status updates; and update on the telesupervision project. The Council will receive public comments from 2:50 p.m. to 2:55 p.m. EST.

Interested persons may attend and/or present oral statements to the Council. The dial in number to attend the conference call is: 669-254-5252. At the prompt, enter meeting ID 161 496 9601, then press #. The meeting passcode is 122469, then press #. Individuals seeking to present oral statements are invited to submit a 1-2 page summary of their comments at the time of the meeting for inclusion in the official meeting record. Oral presentations will be limited to five minutes or less, depending on the number of participants. Interested parties may also provide written comments for review by the Council prior to the meeting or at any time, by email to Larissa.Emory@va.gov, or by mail to Larissa A. Emory PMP, CBP, MS, Designated Federal Officer, Office of Academic Affiliations (14AA), 810 Vermont Avenue NW, Washington, DC 20420. Any member of the public wishing to participate or seeking additional information should contact Ms. Emory via email or by phone at (915) 269-0465.

Dated: May 16, 2022.
Jelessa M. Burney,
Federal Advisory Committee Management Officer.

[FR Doc. 2022-10771 Filed 5-18-22; 8:45 am]

BILLING CODE P